DEPARTMENT OF THE INTERIOR

Bureau of Land Management

[LLNVW01000.L51100000.GN0000. LVEMF1907180.19X; MO#4500145888]

Notice of Intent To Prepare a Draft Environmental Impact Statement for the Proposed Gold Acquisition Corporation, Relief Canyon Mine—Phase II Mine Expansion Amendment, Pershing County, NV

AGENCY: Bureau of Land Management, Interior.

ACTION: Notice of intent.

SUMMARY: In compliance with the National Environmental Policy Act of 1969, as amended (NEPA), and the Federal Land Policy and Management Act of 1976, as amended, the Bureau of Land Management (BLM) Humboldt River Field Office, Winnemucca, Nevada, intends to prepare an Environmental Impact Statement (EIS) to analyze the potential impacts of the proposed expansion to the Relief Canyon gold mining operation in Pershing County, Nevada. This notice announces the beginning of the scoping process to solicit public comments and identify issues to be considered in the EIS, and serves to initiate public consultation, as required under the National Historic Preservation Act.

DATES: This notice initiates the public scoping process for the EIS. Comments on issues to be considered in the EIS may be submitted in writing until September 17, 2020. The dates and locations of two virtual scoping meetings will be announced at least 15 days in advance through local media, newspapers and the BLM website at: https://www.blm.gov/office/winnemucca-district-office. In order to be included in the Draft EIS, all comments must be received prior to the close of the 30-day scoping period. We will provide additional opportunities for public participation upon publication of the Draft EIS.

ADDRESSES: You may submit comments related to the Project by any of the following methods:

• Website: https://eplanning.blm.gov/eplanning-ui/project/2000567/510.

• Email: wfoweb@blm.gov, include Relief Canyon Mine—Phase II Expansion EIS Comments in the subject line.

• Fax: (775) 623-1503.

• Mail: 5100 E. Winnemucca Blvd., Winnemucca, NV 89445.

FOR FURTHER INFORMATION CONTACT: Ms. Jean Black, telephone: (775) 623-1500, email: jblack@blm.gov; address: 5100 E. Winnemucca Blvd., Winnemucca, NV 89445. Contact Ms. Black to have your name added to our mailing list. Persons who use a telecommunications device for the deaf (TDD) may call the Federal Relay Service (FRS) at 1-800-877-8339 to contact Ms. Black during normal business hours. The FIRS is available 24-hours a day, 7-days a week, to leave a message or question. You will receive a reply during normal business hours.

SUPPLEMENTARY INFORMATION: Gold Acquisition Corporation (GAC), a wholly owned subsidiary of Pershing Gold Corporation, itself a wholly owned subsidiary of Americas Gold and Silver Corporation, proposes an expansion to the existing Relief Canyon Gold Mine. The mine is located in Pershing County, Nevada, approximately 16 miles east-northeast of Lovelock, Nevada. The proposed expansion is located within GAC's authorized plan boundary and proposes to modify the existing plan as follows:

• Create roughly 576 acres of new surface disturbance on public and private land including re-disturbance of about 137 acres of previously disturbed vegetation communities.

• Expand the footprint of the existing approved pit area by approximately 84 acres (68 acres of public land and 16 acres of private land) with resultant elimination of a portion of existing Waste Rock Storage Facility (WRSF) 4.

• Mine to final pit bottom elevation of 4,420 feet above mean sea level (ft amsl), which will involve continued mining below the water table, and result in a post-mining pit lake that is predicted to reach an equilibrium elevation of 4,887 ft amsl roughly 50 years after completion of mining.

• Construct a dewatering conveyance pipeline and Rapid Infiltration to re-infiltrate up to 900 gallons per minute of mine dewatering water during the last 3 months of proposed Phase II mining.

• Install up to 50 vertical and horizontal drains in the pit wall to ensure pit slope stability and supplement pit dewatering operations.

• Convert up to 50 exploration drill holes located in and adjacent to the pit as vertical or near vertical drains and/or piezometer to monitor water levels to ensure pit slope stability and supplement pit dewatering operations.

• Expand WRSFs, heap leach pads, and construct process ponds, new growth media stockpiles, diversion ditches for stormwater control, and ancillary facilities.

• Expand yard and crusher-conveyor areas, roads, and fences.

• Close and reclaim all project facilities at the completion of Phase II.

Scoping Process

The purpose of the public scoping process is to identify relevant issues that will influence the scope of the environmental analysis, including alternatives, and guide the process for developing the EIS. The BLM has identified some preliminary issues associated with the Project:

(a) Formation of a pit lake and associated groundwater sink after completion of mining activities: The average pre-mining water table elevation was estimated to be 5,130 feet ft amsl, and the resultant pit lake is predicted to have a recovered surface elevation of 4,887 ft amsl;

(b) Potential impacts to wildlife habitat: The extended mine life and increased disturbance could affect wildlife including Golden Eagles. The BLM and U.S. Fish and Wildlife Service will work cooperatively to analyze the affects the proposed project may have to Golden Eagle nests and territories.

The BLM will use and coordinate the NEPA scoping process to help fulfill the public involvement process under the NHPA as provided in 42 CFR 800.2(d)(3). The information about historic and cultural resources within the area potentially affected by the proposed project will assist the BLM in identifying and evaluating impacts to such resources in the context of both NEPA and the NHPA.

The BLM will consult with Native American tribes on a government-to-government basis in accordance with Executive Order 13175 and other policies. Tribal concerns, including impacts on Indian trust assets and potential impacts to cultural resources, will be given due consideration.

Federal, State, and local agencies, along with tribes and other stakeholders that may be interested in or affected by the proposed project that the BLM is evaluating, are invited to participate in the scoping process and, if eligible, may request or be requested by the BLM to participate in the development of the EIS as a cooperating agency. Comments and materials, we receive, as well as supporting documentation that we use in preparing the EIS, will be available for public inspection during normal business hours at the Winnemucca District Office (see ADDRESSES section previously).

Before including your address, phone number, email address, or other personal identifying information in your comment, you should be aware that your entire comment—including your personal identifying information—may be made publicly available at any time. While you may request in your comment that your personal identifying information be withheld from public review, we cannot guarantee that we will be able to do so.

Authority: 40 CFR 1501.7.

Ester McCullough,
District Manager, Winnemucca District Office.

[FR Doc. 2020-18047 Filed 8-17-20; 8:45 am]

BILLING CODE 4310-HC-P